DEPARTMENT OF DEFENSE

Office of the Secretary

[Docket ID: DoD-2023-OS-0090]

Privacy Act of 1974; System of Records

AGENCY: Office of the Secretary of Defense, Department of Defense (DoD).

ACTION: Notice of a new system of records.

SUMMARY: In accordance with the Privacy Act of 1974, the DoD is issuing a new system of records titled, “National Guard Youth Challenge Program (NGYCP) Records,” DPR 32. This system of records is being established by the Office of the Under Secretary of Defense for Personnel and Readiness to collect and maintain records on youth ages 15½ to 18 who utilize services provided by the National Guard Youth Challenge Academies in their respective states. The data will also be used for longitudinal tracking for higher learning placement, employment placement, justice recidivism, and analysis of program effectiveness.

DATES: This system of records is effective upon publication; however, comments on the Routine Uses will be accepted on or before October 30, 2023. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Jessica Levin, Privacy and Civil Liberties Officer, Office of the Under Secretary of Defense for Personnel and Readiness, 4000 Defense Pentagon, Washington, DC 20301-4000, (202) 815-1083.

SUPPLEMENTARY INFORMATION:

I. Background

The National Guard Youth Challenge Program is a preventive at-risk youth program that targets voluntary participants, primarily 15½ to 18 years of age, who have dropped out of school, ceased to continually attend secondary education institutions, or are not satisfactorily progressing, and are willing to become drug-free, and are crime-free. The Youth Challenge Program was established in Section 1076 of the National Defense Authorization Act for Fiscal Year 1998 (32 U.S.C. 509) to address the school dropout crisis by improving education, life skills, and employment potential of participants. This is accomplished by providing military-based training, supervised work experience, and by advancing the program's core components. These core components include life coping skills, leadership, followership, service to community, job skills, academic excellence, responsible citizenship, health/hygiene and physical education. Academic excellence focuses on helping the participants obtain a high school diploma, an equivalency diploma or valid credits to facilitate their return to finish high school. Job skills training is expanded upon in the optional job challenge phase where participants (or cadets, as they are called) continue, after graduating Youth Challenge, in order to obtain a job certification, credential or apprenticeship.

The Youth Challenge is a residential education and training program. The 22-week residential period is quasi-military, but there is no requirement for military service. After the residential period, trainees participate in a one-year structured mentoring program.

This system of records covers records on all participating youth using the services provided by the National Guard Youth Challenge Program locations in their respective states.

DoD SORNs have been published in the Federal Register and are available from the address in FOR FURTHER INFORMATION CONTACT or at the Office of the Assistant to the Secretary for Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: September 22, 2023.
Aaron T. Siegel,
Alternate OSD Federal Register Liaison Officer, Department of Defense.

SYSTEM NAME AND NUMBER:

National Guard Youth Challenge Program (NGYCP) Records, DPR 32.

SECURITY CLASSIFICATION:

Unclassified.

SYSTEM LOCATION:

Decentralized State NGYCP Program Offices; National Guard Bureau Directorate of Manpower & Personnel, Office of Youth Programs (NGB-J1-Y), 111 S George Mason Dr., Arlington, VA 22204.

SYSTEM MANAGER:

Director, Civil-Military Programs, Office of the Assistant Secretary of Defense for Manpower & Reserve Affairs, Office of the Under Secretary of Defense for Personnel and Readiness, 1400 Defense Pentagon, Room 2E565, Washington, DC 20301, email: ng.ncr.ngb-arng.mbx.ngycp@mail.mil.

AUTHORITY FOR MAINTENANCE OF THE SYSTEM:

10 U.S.C. 136, Under Secretary of Defense for Personnel & Readiness; 32 U.S.C. 509, National Guard Youth Challenge Program of opportunities for civilian youth; DoD Instruction 1025.08, National Guard Youth Challenge Program; and E.O. 9397 (SSN), as amended.

PURPOSE(S) OF THE SYSTEM:

A. To intervene in and reclaim the lives of 15½ to 18-year-old high school dropouts, producing program graduates with the values, life skills, education, and self-discipline necessary to succeed as productive citizens.

B. To collect and maintain information on NGYCP participants in order to facilitate program participation. The NGCYP program is a 22-week residential preventive program that targets at-risk youth who have dropped out of school, ceased to continually attend secondary education institutions, or are not satisfactorily progressing, are willing to become drug-free, and are crime-free.

C. To facilitate programs to assist participants in earning their high school diploma or high school equivalency diploma, learning personal responsibility and good hygiene/health practices, and receiving employment assistance and responsible adult mentorship.

D. To conduct longitudinal tracking for higher learning placement, employment placement, justice recidivism, and analysis of program effectiveness.

CATEGORIES OF INDIVIDUALS COVERED BY THE SYSTEM:

U.S. citizens or legal permanent residents between the ages of 15½ to 18 years of age who apply for or are accepted into the NGYCP program.

CATEGORIES OF RECORDS IN THE SYSTEM:

A. Biographic Information: name, Social Security Number (SSN), home address, personal telephone number, email address, date of birth, sex, gender, race/ethnicity, parent/guardian information, and educational grade.

B. Health Information, relevant to the individual's program participation and residency, such as allergies, medication instructions, substance abuse history, and psychological or mental health support needs.

C. Educational Information, such as courses, grades, standard test scores, trade certifications, completion diplomas/certificates, disciplinary data, and program completion notes.

D. Employment Information, such as applications, offers, promotions, disciplinary, terminations, wages, industry/occupation of employment, and benefits eligibility

E. Legal information, such as nature and outcome of past criminal or civil charges or convictions, and parole or probationary status.

F. Other Program Information, such as mentor engagement notes.

RECORD SOURCE CATEGORIES:

Records and information stored in this system of records are obtained from:

A. Individuals such as participant, parent or legal guardians, and school counselors or other school officials and mentors.

B. Local school districts, adult learning institutes (vocational/technical, community colleges, universities), State departments of education.

C. Federal, State, local health and human services databases, and law enforcement databases.

D. Federal, State, or local employment/labor departments.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To school districts, state departments of education, and adult learning institutions for the purpose of obtaining academic and other relevant data on performance and graduation/completion suitability to facilitate tracking higher level education placement as a measure of NGYCP program success.

L. To Federal, State, and local justice departments to collect information from these organizations to facilitate tracking potential incarcerations as a measure of NGYCP program success.

M. To Federal, State, and local employment/labor departments to obtain academic/vocation and other relevant data on performance, graduation/program completion and employment suitability to facilitate tracking employment placement and/or military service as a measure of NGYCP program success.

POLICIES AND PRACTICES FOR STORAGE OF RECORDS:

Records may be stored electronically or on paper in secure facilities in a locked drawer behind a locked door. The records may be stored on magnetic disc, tape, or digital media; in agency-owned cloud environments; or in vendor Cloud Service Offerings certified under the Federal Risk and Authorization Management Program (FedRAMP).

POLICIES AND PRACTICES FOR RETRIEVAL OF RECORDS:

Records may be retrieved by last name and SSN.

POLICIES AND PRACTICES FOR RETENTION AND DISPOSAL OF RECORDS:

Temporary. Cut off annually upon completion of course. Destroy 10 year(s) after removal, withdrawal or completion of the courses.

ADMINISTRATIVE, TECHNICAL, AND PHYSICAL SAFEGUARDS:

Records are maintained in controlled areas accessible only to authorized personnel. Access to personal information is further restricted by the use of Common Access Cards and user ID/passwords. Paper records are maintained in a controlled facility where physical entry is restricted by the use of locks, a card access control system, staffed reception areas and cameras inside and outside which monitor all doors. Technical controls in place include user identification and passwords, an Intrusion Detection System, encryption, firewalls, Virtual Private Networks and Public Key Infrastructure Certificates. Administrative controls in place include periodic security audits, ensuring only authorized personnel have access to personally identifiable information, encryption of backups containing sensitive data, and securing backups off-site.

RECORD ACCESS PROCEDURES:

Individuals seeking access to their records should follow the procedures in 32 CFR part 310. Parents and guardians of minor children must follow the procedures in 32 CFR 310.3(d) to obtain access to records of the child. These procedures require the parent or legal guardian to establish: (1) The identity of the individual who is the subject of the record; (2) the parent/guardian's own identity; (3) that the requester is the parent or guardian of that individual, which may be proven by providing a copy of the individual's birth certificate showing parentage or a court order establishing the guardianship; and (4) that the parent or guardian is acting on behalf of the individual in making the request. Individuals should address written record access requests to the Office of the Secretary of Defense/Joint Staff Freedom of Information Act Division, 1155 Defense Pentagon, Washington, DC 20301-1155 Requester Service Center website: https://www.esd.whs.mil/FOID/. Signed written requests should contain the name and number of this system of records notice along with full name, SSN, current address, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

None.

[FR Doc. 2023-21130 Filed 9-27-23; 8:45 am]

BILLING CODE 5001-06-P